DEPARTMENT OF LABOR

Notice of Publication of 2016 Update to the Department of Labor's List of Goods Produced by Child Labor or Forced Labor

AGENCY: Office of the Secretary, Bureau of International Labor Affairs, Department of Labor.

ACTION: Announcement of public availability of updated list of goods.

SUMMARY: This notice announces the publication of an updated list of goods—along with countries of origin—that the Bureau of International Labor Affairs (ILAB) has reason to believe are produced by child labor or forced labor in violation of international standards (the List). ILAB is required to develop and make available to the public the List pursuant to the Trafficking Victims Protection Reauthorization Act (TVPRA) of 2005, as amended.

FOR FURTHER INFORMATION, CONTACT: Director, Office of Child Labor, Forced Labor, and Human Trafficking, Bureau of International Labor Affairs, U.S. Department of Labor, at (202) 693-4843 (this is not a toll-free number).

SUPPLEMENTARY INFORMATION: The Bureau of International Labor Affairs (ILAB) announces the publication of the seventh edition of the List of Goods Produced by Child Labor or Forced Labor (List), pursuant to the Trafficking Victims Protection Reauthorization Act (TVPRA) of 2005, as amended (TVPRA). ILAB published the initial List on September 10, 2009, and has since published six updated editions. The 2016 edition adds three new goods (pepper, potatoes, and silk cocoons) and two new countries (Costa Rica and Sudan) to the List. This edition also features the removal of Jordan from the List.

Section 105(b) of the TVPRA mandates that ILAB develop and publish a list of goods from countries that ILAB “has reason to believe are produced with child labor or forced labor in violation of international standards.” 22 U.S.C. 7112(b)(2). ILAB's Office of Child Labor, Forced Labor, and Human Trafficking (OCFT) carries out this mandate. The primary purposes of the List are to raise public awareness about the incidence of child labor and forced labor in the production of goods in the countries listed and to promote efforts to eliminate such practices. A full report, including the updated List and a discussion of the List's methodology, as well as Frequently Asked Questions and a bibliography of sources, are available on the Department of Labor Web site at: http://www.dol.gov/ilab/reports/child-labor/list-of-goods/.

Signed at Washington, DC, this 19 day of September 2016.
Carol Pier,
Deputy Undersecretary for International Affairs.

[FR Doc. 2016-23479 Filed 9-29-16; 8:45 am]

BILLING CODE 4510-28-P